DEPARTMENT OF COMMERCE

International Trade Administration

U.S. Healthcare Trade Mission to Russia, October 21-25, 2013; Correction

AGENCY: International Trade Administration, Department of Commerce.

ACTION: Notice; Cancellation.

SUMMARY: The United States Department of Commerce, International Trade Administration, U.S. and Foreign Commercial Service published a document in the Federal Register of May 30, 2013 regarding the U.S. Healthcare Trade Mission to Russia, October 21-25, 2013. This mission has been cancelled. Please update the existing notice with a note that this mission is cancelled as of July 8, 2013.

Cancellation Notice

In the Federal Register of December 4, 2012, in 78 FR 32369 on page 32369, title, note a top of page, correct the subject heading of the notice to read: U.S. Healthcare Trade Mission to Russia has been Cancelled, Oct 21-25, 2013.

FOR FURTHER INFORMATION CONTACT: Jessica Dulkadir, Commercial Service Trade Missions Program, Tel: 202-482-2026, Fax: 202-482-9000, email: jessica.dulkadir@trade.gov

Dated: May 30, 2013.
Elnora Moye,
Trade Program Assistant.

[FR Doc. 2013-16814 Filed 7-12-13; 8:45 am]

BILLING CODE 3510-FP-P